DEPARTMENT OF COMMERCE

Patent and Trademark Office

[Docket No. PTO-C-2021-0016]

New Implementation Date for Voluntary Continuing Legal Education Certification

AGENCY: United States Patent and Trademark Office, Department of Commerce.

ACTION: Notice of delay in implementation date.

SUMMARY: The United States Patent and Trademark Office (USPTO or Office) is delaying indefinitely the implementation of the voluntary continuing legal education (CLE) certification. The USPTO anticipates providing at least 120 days' notice prior to any implementation of the voluntary CLE certification.

DATES: Delay of Implementation Date: The USPTO is delaying implementation of the voluntary certification of CLE indefinitely.

FOR FURTHER INFORMATION CONTACT: Will Covey, Deputy General Counsel and Director of the Office of Enrollment and Discipline (OED), at 571-272-4097. Please direct media inquiries to the USPTO's Office of the Chief Communications Officer at 571-272-8400.

SUPPLEMENTARY INFORMATION: On August 3, 2020, the USPTO issued a final rule, Setting and Adjusting Patent Fees During Fiscal Year 2020, 85 FR 46932 (Aug. 3, 2020). Under this rule registered patent practitioners and individuals granted limited recognition to practice before the USPTO in patent matters would be permitted to voluntarily certify to the OED Director their completion of 6 credits of CLE in the preceding 24 months (including 5 hours of CLE in patent law and practice and 1 hour of CLE in ethics). 37 CFR 11.11(a)(3)(i). The 2020 final fee rule also provided that the OED Director may recognize practitioners who certify their completion of CLE in the online register of practitioners. 37 CFR 11.11(a)(1).

On October 9, 2020, the USPTO published proposed CLE guidelines with a request for comments in the Federal Register, seeking public input on those guidelines. 85 FR 64128. The request for comments closed on January 7, 2021. The USPTO received 26 comments addressing both the proposed CLE guidelines and the provisions of the final patent fee rule that establish the biennial electronic registration statement.

On June 10, 2021, the USPTO issued a Federal Register Notice announcing that the voluntary CLE certification would commence in the spring of 2022 but that implementation of the biennial electronic registration statement would be delayed until November 1, 2024. 86 FR 30920.

At this time, based on operational priorities, implementation of the voluntary CLE certification will be delayed indefinitely. The expected implementation date for the biennial electronic registration statement remains November 1, 2024.

The USPTO will provide at least 120 days' notice prior to the implementation of the voluntary CLE certification. In addition, the USPTO will issue final CLE guidelines and specific instructions for making the certification prior to any implementation date.

Andrew Hirshfeld,
Commissioner for Patents, Performing the Functions and Duties of the Under Secretary of Commerce for Intellectual Property and Director of the United States Patent and Trademark Office.

[FR Doc. 2021-27221 Filed 12-15-21; 8:45 am]

BILLING CODE 3510-16-P